OFFICE OF PERSONNEL MANAGEMENT

[Docket ID: OPM-2024-0004]

Privacy Act of 1974; Matching Program

AGENCY: Office of Personnel Management.

ACTION: Notice of a new matching program.

SUMMARY: Pursuant to the Privacy Act of 1974, as amended by the Computer Matching and Privacy Protection Act of 1988 and the Computer Matching Privacy Protections Amendment of 1990 (Privacy Act), and Office of Management and Budget (OMB) guidance on the conduct of matching programs, notice is hereby given of the reestablishment of a matching program between the Office of Personnel Management (OPM) and the Social Security Administration (SSA) (Computer Matching Agreement 1071), the purpose of which is to assist OPM in meeting its legal obligation to offset its payments to disability annuitants, child survivor annuitants, and spousal survivor annuitants who receive benefits from OPM.

DATES: Please submit comments on or before April 10, 2024. The matching program will begin on April 26, 2024, unless comments have been received from interested members of the public that require modification and republication of the notice. The matching program will continue for 18 months from the beginning date and may be extended for an additional 12 months if the respective agency Data Integrity Boards determine that the conditions specified in 5 U.S.C. 552a(o)(D) have been met.

ADDRESSES: You may submit comments via mail to: Stanley McMichael, Resource Management Officer, Retirement Services and Management, Retirement Services, Office of Personnel Management, Room 3316, 1900 E. Street NW Washington, DC 20415 or via email at Stanley.mcmichael@opm.gov. You may also submit comments, identified by docket number and title, at the Federal Rulemaking Portal: http://www.regulations.gov by following the instructions for submitting comments. All submissions received must include the agency name and docket number for this document. The general policy for comments and other submissions from members of the public is to make these submissions available for public viewing at http://www.regulations.gov as they are received without change, including any personal identifiers or contact information.

FOR FURTHER INFORMATION CONTACT: Lisa Morgan, Retirement Services, Office of Personnel Management, at (202) 936-0866.

SUPPLEMENTARY INFORMATION: In accordance with the Privacy Act of 1974, as amended by the Computer Matching and Privacy Protection Act of 1988 and the Computer Matching Privacy Protection Amendment of 1990 (Privacy Act), and Office of Management and Budget (OMB) guidance on the conduct of matching programs, including OMB Final Guidance Interpreting the Provision of Public Law 100-53 (published in the Federal Register on June 19, 1989 (54 FR 25818) and OMB Circular A-108, notice is hereby given of a re-established matching program between the Office of Personnel Management (OPM) and the Social Security Administration (SSA). This matching program, Computer Matching Agreement 1071, is being reestablished to enable SSA to disclose benefit information regarding individuals who receive benefits from SSA under title II of the Social Security Act (Act).

OPM will match SSA's information with OPM's records to determine eligibility for these benefits and compute the benefits it provides to these individuals at the correct rate.

PARTICIPATING AGENCIES:

OPM and SSA.

AUTHORITY FOR CONDUCTING THE MATCHING PROGRAM:

Legal authorities for the disclosures under this agreement are 5 U.S.C. 8442(f), 8443(a), 8452(a)(2)(A), and 8461(h)(1). The legal authority for SSA's disclosures under this agreement are section 1106 of the Social Security Act (42 U.S.C. 1306), the Privacy Act (5 U.S.C. 552a(b)), and section 7213(a) of the Intelligence Reform and Terrorism Prevention Act of 2004 (42 U.S.C. 405 note).

PURPOSE(S):

The purpose of this agreement between OPM and SSA is to assist OPM in meeting its legal obligation to offset its payments to disability annuitants, child survivor annuitants, and spousal survivor annuitants who receive benefits from OPM.

CATEGORIES OF INDIVIDUALS:

The individuals whose information is involved in this matching program are Disability Annuitants, Children Survivor Annuitants, and Spousal Survivor Annuitants. SSA will provide information about these individuals by referencing their master file of all individuals with Social Security numbers (SSN).

CATEGORIES OF RECORDS:

The categories of records involved in this matching program include the full name, SSN, date of birth, and necessary SVES indicator. In turn, SSA will match the record against SSA's Master Beneficiary Record (MBR) system of records, 60-0090, and provide OPM with individuals' beneficiary status under title II of the Act and associated benefit data from the MBR via the State Verification and Exchange System (SVES).

SYSTEM(S) OF RECORDS:

OPM's system of records involved in this matching program is OPM/Central-1, Civil Service Retirement and Insurance Published at 73 FR 15013 (March 20, 2008) and 87 FR 5874 (February 2, 2022). SSA's systems of records involved in this matching program are the Master Files of Social Security Number (SSN) Holders and SSN Applications (Enumeration System), 60-0058, last fully published at 87 FR 263 (January 4, 2022); the Master Beneficiary Record (MBR), 60-0090, last fully published at 71 FR 1826 (January 11, 2006), as updated at 72 FR 69723 (December 10, 2007); 78 FR 40542 (July 5, 2013); 83 FR 31250-31251 (July 3, 2018); and 83 FR 54969 (November 1, 2018).

Office of Personnel Management.
Kayyonne Marston,
Federal Register Liaison.

[FR Doc. 2024-05098 Filed 3-8-24; 8:45 am]

BILLING CODE 6325-38-P